DEPARTMENT OF HEALTH AND HUMAN SERVICES

Food and Drug Administration

[Docket No. FDA-2017-N-5624]

Agency Information Collection Activities; Submission for Office of Management and Budget Review; Comment Request; Content and Format of Labeling for Human Prescription Drugs and Biological Products; Requirements for Pregnancy and Lactation Labeling

AGENCY: Food and Drug Administration, HHS.

ACTION: Notice.

SUMMARY: The Food and Drug Administration (FDA) is announcing that a proposed collection of information has been submitted to the Office of Management and Budget (OMB) for review and clearance under the Paperwork Reduction Act of 1995.

DATES: Fax written comments on the collection of information by March 14, 2018.

ADDRESSES: To ensure that comments on the information collection are received, OMB recommends that written comments be faxed to the Office of Information and Regulatory Affairs, OMB, Attn: FDA Desk Officer, Fax: 202-395-7285, or emailed to oira_submission@omb.eop.gov. All comments should be identified with the OMB control number 0910-0624. Also include the FDA docket number found in brackets in the heading of this document.

FOR FURTHER INFORMATION CONTACT: Domini Bean, Office of Operations, Food and Drug Administration, Three White Flint North, 10A-12M, 11601 Landsdown St., North Bethesda, MD 20852, 301-796-5733, PRAStaff@fda.hhs.gov.

SUPPLEMENTARY INFORMATION: In compliance with 44 U.S.C. 3507, FDA has submitted the following proposed collection of information to OMB for review and clearance.

Content and Format of Labeling for Human Prescription Drugs and Biological Products; Requirements for Pregnancy and Lactation Labeling

OMB Control Number 0910-0624—Extension

This information collection supports Agency regulations regarding the content and format requirements for pregnancy and lactation labeling. In the Federal Register of December 4, 2014 (79 FR 72064), FDA published a final rule entitled “Content and Format of Labeling for Human Prescription Drug and Biological Products; Requirements for Pregnancy and Lactation Labeling.” The final rule amended FDA regulations concerning the content and format of the “Pregnancy,” “Labor and delivery,” and “Nursing mothers” subsections of the “Use in Specific Populations” section of the labeling for human prescription drugs. The regulations now require, among other things, a summary of the risks of using a drug during pregnancy and lactation and a discussion of the data supporting that summary. The labeling must also include relevant information to help health care providers make prescribing decisions and counsel women about the use of drugs during pregnancy and lactation. The final rule eliminated the pregnancy categories A, B, C, D, and X. In addition, FDA eliminated the “Labor and delivery” subsection because the “Pregnancy” subsection includes information on labor and delivery. The final rule also required that the labeling include relevant information about pregnancy testing, contraception, and infertility for health care providers prescribing for females and males of reproductive potential. In addition, the final rule provided for a 10-year implementation schedule for compliance with the relevant regulations. As the implementation schedule is realized, FDA plans to discontinue this separate information collection and incorporate the provisions into existing collections as appropriate.

The content and format requirements apply to:

• Applications submitted on or after June 30, 2015 (§§ 314.50 (21 CFR 314.50), 314.70(b) (21 CFR 314.70(b)), 601.2 (21 CFR 601.2), and 601.12(f)(1)) (21 CFR 601.12(f)(1));

• amendments to applications pending on June 30, 2015 (§§ 314.60 (21 CFR 314.60), 601.2, and 601.12(f)(1));

• supplements to applications approved from June 30, 2001, to June 30, 2015 (§§ 314.70(b) and 601.12(f)(1)); and

• annual reports for applications approved before June 30, 2001, that contain a pregnancy category, to report removal of the pregnancy category letter in their labeling (§§ 314.70(d) and 601.12(f)(3)).

Under § 201.57(c)(9)(i) and (ii) (21 CFR 201.57(c)(9)(i) and (ii)), holders of approved applications must provide new labeling content in a new format—that is, to rewrite the pregnancy and lactation portions of each drug's labeling. Section 201.57(c)(9)(iii) requires that labeling must include the new subsection 8.3, “Females and males of reproductive potential.” Application holders are required to submit prior approval supplements to their approved applications before distribution of the new labeling, as required in § 314.70(b) or § 601.12(f)(1) (21 CFR 601.12(f)(1)).

Under 21 CFR 201.80(f)(6)(i), holders of approved applications are required to remove the pregnancy category designation (e.g., “Pregnancy Category C”) from the “Pregnancy” subsection of the “Precautions” section of the labeling. These application holders must report the labeling change in their annual reports, as required in § 314.70(d) or § 601.12(f)(3).

In the Federal Register of October 4, 2017 (82 FR 46248), we published a 60-day notice requesting public comment on the proposed extension of this collection of information. Two comments were received in response to the notice, however both comments discussed specific requirements found in FDA regulations rather than the four information collection topics solicited in our notice under the PRA. We have therefore not made adjustments to our burden estimate for the information collection, which is as follows:

Table 1—Estimated Annual Third-Party Disclosure Burden ¹
Type of submission (21 CFR section) | Number of respondents | Number of disclosures per respondent | Total annual disclosures | Average burden per disclosure | Total hours
New NDAs/ANDAs/BLAs/efficacy supplements submitted on or after June 30, 2015, including amendments to applications pending as of June 30, 2015 (§§ 314.50, 314.60, 314.70(b), 601.2, 601.12(f)(1)) | 390 | ~10 | 4,000 (Submitted during 10-year period after June 30, 2015) | 40 | 160,000
¹ There are no capital costs or operating and maintenance costs associated with this collection of information.

Table 2—Estimated Annual Reporting Burden ¹
Type of submission (21 CFR section) | Number of respondents | Number of responses per respondent | Total annual responses | Average burden per response | Total hours
Supplements to applications approved June 30, 2001 to June 30, 2015 (§§ 314.70(b), 601.12(f)(1)) | 390 | 26 | 10,150 (Submitted 3rd, 4th, and 5th years after June 30, 2015) | 120 | 1,218,000
Annual report submission of revised labeling for applications that contain a pregnancy category, approved before June 30, 2001 (§§ 314.70(d), 601.12(f)(3)) | 320 | ~17 | 5,500 (Submitted 3rd year after June 30, 2015) | 40 | 220,000
Total |  |  |  |  | 1,438,000
¹ There are no capital costs or operating and maintenance costs associated with this collection of information.

As indicated in tables 1 and 2, we estimate the burden associated with the information collection to be 1,598,000 hours. We estimate 4,000 applications containing the subject labeling will be submitted by approximately 390 applicants and repackagers and relabelers to FDA over the 10-year period beginning June 30, 2015. This figure (4,000 applications) includes labeling for approximately 800 applications submitted under section 505(b) of the Federal Food, Drug, and Cosmetic Act (FD&C Act) (21 U.S.C. 505(b)) or section 351 of the Public Health Service Act (42 U.S.C. 262), 1,200 applications submitted under section 505(j) of the FD&C Act, and 2,000 revised drug product labeling from repackagers and relabelers for approximately 2,000. This estimate also includes labeling amendments submitted to FDA for applications pending as of the effective date of the final rule. We estimate it will take applicants 40 hours to prepare and submit the subject labeling. This estimate applies only to the requirements found in the previous paragraphs and does not indicate the total hours required to prepare and submit complete labeling for these applications. The information collection burden to prepare and submit labeling in accordance with §§ 201.56 (21 CFR 201.56), 201.57, and 201.80 is approved by OMB under control numbers 0910-0572 and 0910-0001.

In addition, during the third, fourth, and fifth years after the effective date of the final rule, the Agency estimates that it will receive approximately 10,150 supplements to applications that were either approved from June 30, 2001, to the effective date or were pending as of the effective date. This estimate includes supplements for approximately 1,080 new drug application (NDAs), and biologics license applications (BLAs), and efficacy supplements; 1,320 abbreviated new drug application (ANDA) supplements; and 7,750 drug product labeling supplements from repackagers and relabelers. FDA estimates 390 application holders, repackagers, and relabelers will submit these supplements, and that it will take 120 hours to prepare and submit each supplement.

Finally, we estimate that application holders will submit 5,500 annual reports to FDA during the third year after the effective date for applications that contain a pregnancy category, approved before June 30, 2001. This estimate includes approximately 1,340 NDAs and BLAs and approximately 4,160 ANDAs containing labeling changes as a result of the final rule. FDA estimates that approximately 320 application holders will submit these annual reports, and that it will take approximately 40 hours for each submission. The burden for this information collection has not increased since the last collection.

Dated: February 6, 2018.
Leslie Kux,
Associate Commissioner for Policy.

[FR Doc. 2018-02765 Filed 2-9-18; 8:45 am]

BILLING CODE 4164-01-P